ENVIRONMENTAL PROTECTION AGENCY

[EPA-HQ-ORD-2013-0232; FRL-9924-79-ORD]

Draft Integrated Science Assessment for Oxides of Nitrogen—Health Criteria; Extension of Comment Period

AGENCY: Environmental Protection Agency (EPA).

ACTION: Notice; extension of comment period.

SUMMARY: EPA is announcing an extension of the public comment period for the second external review draft of a document titled, “Second External Review Draft Integrated Science Assessment for Oxides of Nitrogen—Health Criteria” (EPA/600/R-14/006). The original Federal Register document announcing the public comment period was published on January 30, 2015 (80 FR 5110). With this extension, the comment period ends on April 30, 2015. This assessment document was developed by the National Center for Environmental Assessment (NCEA) within EPA's Office of Research and Development (ORD) as part of the review of the primary (health-based) National Ambient Air Quality Standards (NAAQS) for nitrogen dioxide.

DATES: The public comment period began on January 30, 2015, and ends April 30, 2015. Comments must be received on or before April 30, 2015.

ADDRESSES: The “Second External Review Draft Integrated Science Assessment for Oxides of Nitrogen—Health Criteria” is available primarily via the internet on NCEA's home page under the Recent Additions and Publications menus at http://www.epa.gov/ncea or the public docket at http://www.regulations.gov, Docket ID: EPA-HQ-ORD-2013-0232. A limited number of CD-ROM copies are available. Contact Ms. Marieka Boyd by phone: 919-541-0031; fax: 919-541-5078; or email: boyd.marieka@epa.gov to request a CD-ROM, and please provide your name, your mailing address, and the document title, “Second External Review Draft Integrated Science Assessment for Oxides of Nitrogen—Health Criteria” to facilitate processing of your request.

FOR FURTHER INFORMATION CONTACT: For technical information, contact Dr. Molini Patel, NCEA; telephone: 919-541-1492; fax: 919-541-1818; or email: patel.molini@epa.gov.

SUPPLEMENTARY INFORMATION: Comments may be submitted electronically via http://www.regulations.gov, by mail, by fax, or by hand delivery/courier. Please follow the detailed instructions provided in the SUPPLEMENTARY INFORMATION section of Federal Register document that published on January 30, 2015 (80 FR 5110).

For information on submitting comments to the docket, please contact the ORD Docket at EPA's Headquarters Docket Center; telephone: 202-566-1752; fax: 202-566-9744; or email: Docket_ORD@epa.gov.

Dated: March 12, 2015.
Mary A. Ross,
Deputy Director, National Center for Environmental Assessment.

[FR Doc. 2015-06340 Filed 3-19-15; 8:45 am]

BILLING CODE 6560-50-P